DEPARTMENT OF AGRICULTURE

Farm Service Agency

Commodity Credit Corporation

Information Collection Request: Web Based Supply Chain Management Commodity Offer Forms

AGENCY: Farm Service Agency and Commodity Credit Corporation, USDA.

ACTION: Notice; request for comments.

SUMMARY: In accordance with the Paperwork Reduction Act of 1995, the Farm Service Agency (FSA) and Commodity Credit Corporation (CCC) are seeking comments from all interested individuals and organizations on a revision of a currently approved information collection request. This information collection is necessary to support the procurement of agricultural commodities for domestic and export food donation programs. FSA and CCC issue invitations to purchase or process commodities for food assistance programs on monthly, multiple monthly, quarterly, and yearly basis. Special invitations, however, are issued throughout the month. The revision to the information collection request is to support the implementation of a new system named Web Based Supply Chain Management (WBSCM) that will allow respondents to submit information electronically. This new system will replace some of the existing paper forms in this information collection and reduce the burden on respondents. WBSCM will eventually replace all other existing forms in this information collection.

DATES: Comments on this notice must be received on or before February 1, 2010.

ADDRESSES: We invite you to submit comments on this notice. In your comment, include the date and page number of this issue of the Federal Register. You may submit comments by any of the following methods:

• E-mail: Send comments to: khristy.baughman@kcc.usda.gov.

• Fax: (816) 926-1648.

• Mail: Khristy Baughman, Chief, Business Operations Support Division, Kansas City Commodity Office (KCCO), P.O. Box 419205, Kansas City, Missouri 64141-0205.

You may also send comments to the Desk Officer for Agriculture, Office of Information and Regulatory Affairs, Office of Management and Budget (OMB), Washington, DC 20503.

FOR FURTHER INFORMATION CONTACT: Khristy Baughman, Chief, Business Operations Support Division, phone (816) 926-1200.

SUPPLEMENTARY INFORMATION: Title: WBSCM Offer Forms.

OMB Number: 0560-0177.

Expiration Date: December 23, 2011.

Type of Request: Revision of a currently approved information collection.

Abstract: The United States donates agricultural commodities domestically and overseas to relieve famine, provide other emergency assistance and combat malnutrition. It also sells or donates commodities to promote economic development. FSA and CCC issue invitations to purchase or sell agricultural commodities and services for use in domestic and export programs. Vendors respond by making offers using various FSA and CCC commodity offer forms.

The revision to the information collection request is due to the new WBSCM system that respondents will use to submit information electronically. This new system will replace some of the existing paper forms currently approved in this information collection and reduce the burden on respondents. WBSCM will eventually replace all other existing forms in this information collection.

The export offer information and the annual certification information will be entered and received electronically in WBSCM. Most of the domestic offer information will also be entered and received electronically in WBSCM. Vendors will be able to access WBSCM to see the date and time shown in the system for receipt of bid, bid modification, or bid cancellation information. At bid opening date and time, the bid information will be evaluated through the system. Acceptances will be sent to the successful offerors electronically. Awarded contracts will be posted on the FSA Web site.

Estimate of Burden: Public reporting burden for collecting information under this notice is estimated to average 15 to 30 minutes per response, including the time for reviewing instructions, searching existing data sources, gathering and maintaining the data needed, and completing and reviewing the collection of information.

Respondents: Business and other for-profit organizations.

Estimated Number of Respondents: 829.

Estimated Average Number of Report Filed Per Respondent: 48.

Estimated Total Annual Responses: 9921.

Estimated Total Annual Burden on Respondents: 1,066 hours.

We are requesting comments on all aspects of this information collection and to help us to:

(1) Evaluate whether the collection of information is necessary for the proper performance of the functions of the agency, including whether the information will have practical utility;

(2) Evaluate the accuracy of the agency's estimate of burden, including the validity of the methodology and assumptions used;

(3) Enhance the quality, utility and clarity of the information to be collected;

(4) Minimize the burden of the collection of information on those who are to respond, including through the use of appropriate automated, electronic, mechanical, or other technological collection techniques or other forms of information technology.

All comments in response to this notice will be summarized and included in the request for OMB approval. All comments will also become a matter of public record.

Signed in Washington DC on November 20, 2009.
Jonathan W. Coppess,
Administrator, Farm Service Agency.

[FR Doc. E9-28669 Filed 12-1-09; 8:45 am]

BILLING CODE 3410-05-P